DEPARTMENT OF THE INTERIOR

Bureau of Land Management

[AK-040-00-1410-00; AA-082598]

Realty Action; FLPMA Section 302 Lease, Petersville, Alaska

AGENCY: Bureau of Land Management, Interior.

ACTION: Notice of realty action, lease of public land.

SUMMARY: Michelle Stevens (proponent) submitted a proposal for a Residential Occupancy Lease of public land pursuant to Section 302 of the Federal Land Policy and Management Act of 1976 and regulations at Title 43 CFR Part 2920. The lease would allow for established improvements to remain on the land for the duration of the lease.

The land is approximately 24 miles Northwest of Talkeetna, Alaska, at Petersville: located in Section 21 and Section 28, T. 28 N., R. 8 W., Seward Meridian. The leased property would contain portions of the Seattle No.1 and Contact No.1 mining claims as shown on Mineral Survey 2384. The area is described as:

Seattle No.1, N.½, N.½ S.½

Contact No. 1, beginning at corner 1, south along line 1-2 for 985.35 feet, thence N. 87° 50′ W. for 200 feet, thence N. 3° 43′ E. for 985.35 feet to North Boundary of Contact No. 1, thence S. 87° 50′ E. for 200 feet to corner no. 1.

The proposed lease contains approximately 20 acres.

DATES: Interested parties may submit comments on or before October 16, 2000.

ADDRESSES: Mail comments to Nick Douglas, Field Manager, Anchorage Field Office, 6881 Abbott Loop Road, Anchorage, Alaska 99507-2599.

FOR FURTHER INFORMATION CONTACT: Rodney Huffman, (907) 267-1244 or (800) 478-1263.

SUPPLEMENTARY INFORMATION: This is a notice of a proposal for a Residential Occupancy Lease. No additional proposals will be accepted. The proponent will reimburse the United States for reasonable administrative fees and other costs incurred by the United States in processing the proposed lease. The proposed lease would authorize the proponent's improvements to remain on the land.

1 Frame House

1 Nodwell Trailer

2 Frame Cabins

1 Frame Storage Shed

1 Cook Shack

1 Shop

No new construction or improvements would be authorized. The proposed lease would be offered to the Applicant for a term of 10 years and would require rent to be paid to the United States at fair market value. In the absence of a timely objection, this proposal may become the final decision of the Department of the Interior.

Nicholas Douglas,
Field Manager.

[FR Doc. 00-22251 Filed 8-30-00; 8:45 am]

BILLING CODE 4310-JA-P